ENVIRONMENTAL PROTECTION AGENCY

[ER-FRL-6649-6]

Environmental Impact Statements; Notice of Availability

Responsible Agency: Office of Federal Activities, General Information (202) 564-7167 or http://www.epa.gov/compliance/nepa/. Weekly receipt of Environmental Impact Statements filed March 15, 2004, through March 19, 2004, pursuant to 40 CFR 1506.9.

EIS No. 040122, FINAL EIS, FAA, CT, Groton-New London Airport, Construction of Runway 5-23 Safety Area, Permits and Approvals, Town of Groton, New London County, CT, Wait Period Ends: April 26, 2004, Contact: John Silva (617) 238-7602.

EIS No. 040123, FINAL EIS, AFS, OR, Monument Fire Recovery Project, Whitman Unit—Wallowa-Whitman National Forest (WWNF) Timber Harvest of Fire Killed/Dying Trees, Reforestation, Recovery of Herbaceous, Native Vegetation and Maintenance or Improvement of Water Quality, Implementation, Baker County, OR, Wait Period Ends: April 26, 2004, Contact: Roger LeMaster (541) 523-4476.

EIS No. 040124, FINAL EIS, EPA, TX, LA, General New Source NPDES Permit of Discharges from the Offshore Subcategory of the Oil and Gas Extraction Point Source Category to the Territorial Seas of Texas, Wait Period Ends: April 26, 2004, Contact: Hector Pena (214) 665-7453.

EIS No. 040125, FINAL EIS, AFS, UT, Prima East Clear Creek Federal No. 22-42 Gas Exploration Well, Application for Permit to Drill (APD) including a Surface Use Plan of Operations, Approval, Castle Valley Ridge, Ferron/Price Ranger District, Manti-La Sal National Forest, Carbon and Emery Counties, UT, Wait Period Ends: April 26, 2004, Contact: Karl Boyer (435) 637-2817.

EIS No. 040126, FINAL EIS, AFS, OR, Toolbox Fire Recovery Project, Promote the Recovery of the Toolbox Complex Fires of July 2002, Fremont-Winema National Forest, Silver Lake Ranger District, Lake County, OR, Wait Period Ends: April 26, 2004, Contact: Rick Elston (541) 576-7569. This document is available on the Internet at: http://www.fs.fed.us/r6/winema/management/analyses/toolbox/index.shtml.

EIS No. 040127, DRAFT SUPPLEMENT, BLM, NV, Clark County Regional Flood Control Master Plan, Updated Information to the 1991 FEIS, Facilities Construction and Operation, Right-of-Way Approval and U.S. Army COE Section 404 Permit, Clark County, NV, Comment Period Ends: May 25, 2004, Contact: Adrian Garcia (702) 515-5089.

EIS No. 040128, FINAL EIS, DOD, NV, TN, NJ, OH, IN, NY, UT, Mercury Management Project, Site Selection and Implementation of a Long-Term (i.e., 40 Years) Management Plan for the Defense Stockpile of Elemental Mercury, Hawthore, NV; New Haven, IN; Oak Ridge, TN; Romulus, NY; Somerville, NJ; Tooele UT and Warren OH, Wait Period Ends: April 26, 2004, Contact: Dennis Lynch (703) 767-7609.

EIS No. 040129, DRAFT EIS, EPA, FL, Palm Beach Harbor Ocean Dredged Material Disposal Site and the Port Everglades Harbor Ocean Dredged Material Disposal Site, Designation, FL, Comment Period Ends: May 10, 2004, Contact: Christopher McArthur (404) 562-9391. This document is available on the Internet at: http://planning.saj.usace.army.mil/envdocs/PalmBeachandBrowardco/ index.html.

EIS No. 040130, DRAFT EIS, AFS, ID, North Sheep Allotments—Sheep and Goat Allotment Management Plans, To Authorize Continued Sheep Grazing for Fisher Creek, Smiley Creek, North Fork-Boulder and Baker Creek Sheep and Goat Grazing Allotments, Sawtooth National Forest, Ketchum Ranger District, Sawtooth National Recreation Area, Blaine and Custer Counties, ID, Comment Period Ends: May 10, 2004, Contact: Mike O'Farrell (208) 622-0082.

EIS No. 040131, DRAFT EIS, AFS, KY, Land Between the Lakes National Recreation Area, Proposes to Revise TVA's 1994 Natural Resources Management Plan, to Develop an Land Management Resources Plan or Area Plan, Gold Pond, KY, Comment Period Ends: June 30, 2004, Contact: Barbara Wysock (270) 924-2131. This document is available on the Internet at: http//www.lbl.org/ADMIN/plan.

EIS No. 040132, FINAL EIS, AFS, WA, Stimson Access Project, To Access their Private Property through National Forest System Lands, Idaho Panhandle National Forests, Priest Lake Ranger District, Pend Oreille County, WA, Wait Period Ends: April 26, 2004, Contact: Gianna Vaccaro (208) 265-6625. This document is available on the Internet at: http://www.fs.fed.us/ipnf/eco/manage/nepa/index.html.

EIS No. 040133, FINAL EIS, AFS, MI, Baltimore Vegetative Management Project, Implementation, Ottawa National Forest, Ontonagon Ranger District, Ontonagon County, MI, Wait Period Ends: April 26, 2004, Contact: Bruce Prud'homme (906) 884-2085.

EIS No. 040134, DRAFT EIS, FTA, CA, Silicon Valley Rapid Transit Corridor, Construct BART Extension to Milpitas, San Jose and Santa Clara, in the Cities of Fremont, Milpitas, San Jose and Santa Clara, Alameda and Santa Clara Counties, CA, Comment Period Ends: May 14, 2004, Contact: Jerome Wiggins (415) 744-2819.

This document is available on the Internet at: http://www.vtabart-vta.org.

Amended Notices

EIS No. 040097, FINAL EIS, USN, CA, China Lake Naval Air Weapons Station, Proposed Military Operational Increases and Implementation of Associated Comprehensive Land Use and Integrated Natural Resources Management Plans, Located on the North and South Ranges, Inyo, Kern and San Bernardino Counties, CA, Wait Period Ends: April 5, 2004, Contact: John O'Gara (760) 939-3213.

Revision of Federal Register notice published on 03/05/2004: correction to telephone.

EIS No. 040121, FINAL SUPPLEMENT, NOA, HI, GU, AS, Pelagic Fisheries of the Western Pacific Region, Fishery Management Plan, Regulatory Amendment, Management Measures to Implement New Technologies for the Western Pacific Pelagic Longline Fisheries, Hawaii, American Samoa, Guam and Commonwealth of the Northern Mariana Island, Wait Period Ends: March 29, 2004, Contact: Alvin Katekaru (808) 973-2937.

Revision of Federal Register notice published on 3/19/2004: correction to waiver granted under § 1502.9(c)(4). It should be a 20-Day waiver for the above EIS.

Dated: March 23, 2004.
Ken Mittelholtz,
Environmental Protection Specialist, Office of Federal Activities.

[FR Doc. 04-6851 Filed 3-25-04; 8:45 am]

BILLING CODE 6560-50-P